NUCLEAR REGULATORY COMMISSION

[Docket Nos. 50-338-SLR and 50-339-SLR; ASLBP No. 21-970-01-SLR-01]

Virginia Electric and Power Company; Establishment of Atomic Safety and Licensing Board

Pursuant to delegation by the Commission, see 37 FR 28,710 (Dec. 29, 1972), and the Commission's regulations, see, e.g., 10 CFR 2.104, 2.105, 2.300, 2.309, 2.313, 2.318, 2.321, notice is hereby given that an Atomic Safety and Licensing Board (Board) is being established to preside over the following proceeding:

Virginia Electric and Power Company (North Anna Power Station, Units 1 and 2)

This proceeding involves an application seeking a twenty-year subsequent license renewal of Renewed Facility Operating License Nos. NPF-4 and NPF-7, which currently authorize Virginia Electric and Power Company to operate the North Anna Power Company, Units 1 and 2, located in Louisa, Virginia, until, respectively, April 1, 2038 and August 21, 2040. In response to a notice published in the Federal Register announcing the opportunity to request a hearing, see 85 FR 65,438 (Oct. 15, 2020), a hearing request was filed on December 14, 2020 on behalf of Beyond Nuclear, Sierra Club, and Alliance for Progressive Virginia.

The Board is comprised of the following Administrative Judges:

G. Paul Bollwerk, III, Chairman, Atomic Safety and Licensing Board Panel, U.S. Nuclear Regulatory Commission, Washington, DC 20555-0001

Nicholas G. Trikouros, Atomic Safety and Licensing Board Panel, U.S. Nuclear Regulatory Commission, Washington, DC 20555-0001

Dr. Gary S. Arnold, Atomic Safety and Licensing Board Panel, U.S. Nuclear Regulatory Commission, Washington, DC 20555-0001

All correspondence, documents, and other materials shall be filed in accordance with the NRC E-Filing rule. See 10 CFR 2.302.

Rockville, Maryland. December 21, 2020.
Edward R. Hawkens,
Chief Administrative Judge, Atomic Safety and Licensing Board Panel.

[FR Doc. 2020-28634 Filed 12-28-20; 8:45 am]

BILLING CODE 7590-01-P